DEPARTMENT OF ENERGY

Federal Energy Regulatory Commission

Combined Notice of Filings, #1

September 5, 2008.

Take notice that the Commission received the following electric rate filings:

Docket Numbers: ER00-2508-003.

Applicants: Orion Power Midwest, L.P., Reliant Energy Mid-Atlantic Power Holdings.

Description: Reliant Energy Mid-Atlantic Power Holdings, LLC submits a Supplement to the June 30, 2008 Triennial Market Update.

Filed Date: 09/02/2008.

Accession Number: 20080902-5148.

Comment Date: 5 p.m. Eastern Time on Tuesday, September 23, 2008.

Docket Numbers: ER01-1403-006; ER06-1443-002; ER04-366-005; ER01-2968-007; ER01-845-006; ER05-1122-004; ER08-107-001.

Applicants: FirstEnergy Operating Companies, Pennsylvania Power Company, Jersey Central Power & Light Company, FirstEnergy Solutions Corp, FirstEnergy Generation Corporation, FirstEnergy Nuclear Generation Corporation, FirstEnergy Generation Mansfield Unit 1 Corp.

Description: First Energy Service Co submits the revised pivotal supplier and market share screen analyses.

Filed Date: 09/02/2008.

Accession Number: 20080904-0579.

Comment Date: 5 p.m. Eastern Time on Tuesday, September 23, 2008.

Docket Numbers: ER01-596-006; ER01-560-012; ER01-2690-010; ER02-963-010; ER01-2641-012; ER01-558-011; ER02-2509-007; ER05-524-005; ER02-77-010; ER02-553-011; ER00-840-008; ER01-137-006; ER98-1767-013; ER99-2992-008; ER99-3165-008; ER94-389-029; ER02-1942-008; ER00-1780-008; ER01-557-012; ER01-559-012.

Applicants: Alabama Electric Marketing, LLC, Big Sandy Peaker Plant, LLC, California Electric Marketing, LLC, Crete, Energy Venture, LLC, High Desert Power Project, LLC, Holland Energy, LLC, Kiowa Power Partners, LLC, Lincoln Generating Facility, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Services Co, Tenaska Virginia Partners, L.P., Texas Electric Marketing, LLC, University Park Energy, LLC, Wolf Hills Energy, LLC.

Description: Tenaska Energy, Inc et al. submit notice of change in status.

Filed Date: 09/02/2008.

Accession Number: 20080904-0506.

Comment Date: 5 p.m. Eastern Time on Tuesday, September 23, 2008.

Docket Numbers: ER04-230-039; ER01-3155-025; ER01-1385-034; EL01-45-033.

Applicants: New York Independent System Operator, Inc.

Description: New York ISO's Fifteenth Quarterly Report on efforts to improve efficient utilization of combined cycle units within the NYISO markets, and progress of certain technologies in its ancillary services markets.

Filed Date: 09/02/2008.

Accession Number: 20080902-5118.

Comment Date: 5 p.m. Eastern Time on Tuesday, September 23, 2008.

Docket Numbers: ER07-496-001; ER00-1372-004.

Applicants: Alcoa Power Marketing, Inc., Alcoa Power Generating, Inc.

Description: Alcoa Power Generating, Inc et al. submits their updated market power analysis that supports their continued market based rate authorization.

Filed Date: 09/02/2008.

Accession Number: 20080903-0306.

Comment Date: 5 p.m. Eastern Time on Monday, November 3, 2008.

Docket Numbers: ER07-771-002.

Applicants: E.ON U.S. LLC.

Description: Louisville Gas and Electric Company et al. submits their Revised Schedule 2, Reactive Power Supply and Voltage Control under their Open Access Transmission Tariff.

Filed Date: 09/02/2008.

Accession Number: 20080903-0305.

Comment Date: 5 p.m. Eastern Time on Tuesday, September 23, 2008.

Docket Numbers: ER07-1137-002.

Applicants: Lockhart Power Company.

Description: Lockhart Power Company submits its updated market power analysis for continued authority to make sales at market-based rates.

Filed Date: 09/03/2008.

Accession Number: 20080903-0304.

Comment Date: 5 p.m. Eastern Time on Tuesday, November 4, 2008.

Docket Numbers: ER08-54-003.

Applicants: ISO New England Inc.

Description: Cross-Sound Cable Company et al. submits Notice of Withdrawal of certain tariff sheets filed on 6/6/08 etc.

Filed Date: 06/17/2008.

Accession Number: 20080617-0258.

Comment Date: 5 p.m. Eastern Time on Friday, September 12, 2008.

Docket Numbers: ER08-928-001.

Applicants: PJM Interconnection, L.L.C.

Description: PJM Interconnection, LLC submits revisions to its Open Access Transmission Tariff in compliance with FERC's 7/2/08 filing.

Filed Date: 09/02/2008.

Accession Number: 20080903-0311.

Comment Date: 5 p.m. Eastern Time on Tuesday, September 23, 2008.

Docket Numbers: ER08-1230-002.

Applicants: Severstal Sparrows Point, LLC.

Description: Severstal Sparrows Point LLC submits a supplement to their 7/2/08 Notice of Succession and Motion for Determination of Category 1 Seller Status.

Filed Date: 09/03/2008.

Accession Number: 20080905-0096.

Comment Date: 5 p.m. Eastern Time on Wednesday, September 24, 2008.

Docket Numbers: ER08-1230-003.

Applicants: Severstal Sparrows Point, LLC.

Description: Severstal Sparrows Point, LLC. submits a supplement to its 7/15/08 filing of a notice of succession.

Filed Date: 09/03/2008.

Accession Number: 20080905-0097.

Comment Date: 5 p.m. Eastern Time on Wednesday, September 24, 2008.

Docket Numbers: ER08-1487-000.

Applicants: Southwest Power Pool, Inc.

Description: Southwest Power Pool Inc. submits an unexecuted Revised Service Agreement for Ancillary Services and Distribution Facilities with Westar Energy Inc.

Filed Date: 09/02/2008.

Accession Number: 20080903-0307.

Comment Date: 5 p.m. Eastern Time on Tuesday, September 23, 2008.

Docket Numbers: ER08-1488-000.

Applicants: Xcel Energy Services Inc.

Description: Northern States Power Companies submits notices of cancellation of Legacy Transmission Service Agreements.

Filed Date: 09/02/2008.

Accession Number: 20080903-0308.

Comment Date: 5 p.m. Eastern Time on Tuesday, September 23, 2008.

Docket Numbers: ER08-1492-000.

Applicants: Potomac-Appalachian Highline Transmission, LLC.

Description: Potomac-Appalachian Highline Transmission, LLC. submits for informational purposes the first Annual Update under the PATH formula rate accepted by the Commission in the February 29 Order.

Filed Date: 09/02/2008.

Accession Number: 20080904-0507.

Comment Date: 5 p.m. Eastern Time on Tuesday, September 23, 2008.

Docket Numbers: ER08-1493-000.

Applicants: California Independent System Operator Corporation.

Description: California ISO submits transmission accession informational filing that is intended to provide notice regarding their revised transmission Access Charges effective 3/1/08 through 4/3/08.

Filed Date: 09/03/2008.

Accession Number: 20080904-0505.

Comment Date: 5 p.m. Eastern Time on Wednesday, September 24, 2008.

Docket Numbers: ER08-1494-000.

Applicants: Wisconsin Public Service Corporation.

Description: Wisconsin Public Service Corporation submits the Balancing Area Operations Coordination Agreement between WPSC and Dairyland Power Cooperative.

Filed Date: 09/03/2008.

Accession Number: 20080904-0503.

Comment Date: 5 p.m. Eastern Time on Wednesday, September 24, 2008.

Docket Numbers: ER08-1495-000.

Applicants: American Electric Power Service Corporation.

Description: Indiana Michigan Power Company submits an Interconnection Agreement between American Electric Power Service Corporation and Ameren Service Company as agent for Illinois Power and Central Illinois Public Service Company.

Filed Date: 09/03/2008.

Accession Number: 20080904-0504.

Comment Date: 5 p.m. Eastern Time on Wednesday, September 24, 2008.

Docket Numbers: ER08-1496-000.

Applicants: Maine Public Service Company.

Description: Maine Public Service Company submits a Procurement Services Agreement with Aroostook Wind Energy LLC.

Filed Date: 09/03/2008.

Accession Number: 20080905-0092.

Comment Date: 5 p.m. Eastern Time on Wednesday, September 24, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-21298 Filed 9-11-08; 8:45 am]

BILLING CODE 6717-01-P